DEPARTMENT OF HEALTH AND HUMAN SERVICES

Centers for Disease Control and Prevention

Mine Safety and Health Research Advisory Committee (MSHRAC): Notice of Charter Renewal

This gives notice under the Federal Advisory Committee Act (Pub. L. 92-463) of October 6, 1972, that the Mine Safety and Health Research Advisory Committee, National Institute for Occupational Safety and Health, of the Department of Health and Human Services, has been renewed for a 2-year period extending through November 30, 2004.

For further information, contact Lewis V. Wade, Ph.D., Executive Secretary, Mine Safety and Health Research Advisory Committee, Centers for Disease Control and Prevention, of the Department of Health and Human Services, HHH Building, 200 Independence Avenue, SW., Room 715-H, M/S P-12, Washington, DC 20201. Telephone 202/401-2192, fax 202/260-4464, e-mail lhg9@cdc.gov.

The Director, Management Analysis and Services office has been delegated the authority to sign Federal Register notices pertaining to announcements of meetings and other committee management activities, for both the Centers for Disease Control and Prevention and the Agency for Toxic Substances and Disease Registry.

Dated: December 8, 2002.
Alvin Hall,
Director, Management Analysis and Services Office, Centers for Disease Control and Prevention.

[FR Doc. 02-31472 Filed 12-12-02; 8:45 am]

BILLING CODE 4163-19-P